DEPARTMENT OF TRANSPORTATION

Federal Aviation Administration

14 CFR Part 39

[Docket No. FAA-2005-22749; Directorate Identifier 2005-NM-188-AD]

RIN 2120-AA64

Airworthiness Directives; Raytheon Model Hawker 800XP Airplanes

AGENCY: Federal Aviation Administration (FAA), Department of Transportation (DOT).

ACTION: Notice of proposed rulemaking (NPRM).

SUMMARY: The FAA proposes to adopt a new airworthiness directive (AD) for certain Raytheon Model Hawker 800XP airplanes. This proposed AD would require inspecting to determine if the correct fuse is installed on the hydraulic over-temperature switch on panel ZK in the rear equipment bay, and replacing the existing fuse if necessary. This proposed AD results from a report of the installation of an incorrect fuse on the over-temperature switch on panel ZK in the rear equipment bay during airplane maintenance. We are proposing this AD to prevent a short circuit in the fuse and consequent heat damage to associated wiring and surrounding equipment, which could result in smoke or fire on the airplane.

DATES: We must receive comments on this proposed AD by December 12, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Raytheon Aircraft Company, Department 62, P.O. Box 85, Wichita, Kansas, 67201-0085 for the service information identified in this proposed AD.

FOR FURTHER INFORMATION CONTACT: Philip Petty, Aerospace Engineer, Electrical Systems and Avionics, ACE-119W, FAA, Wichita Aircraft Certification Office, 1801 Airport Road, room 100, Mid-Continent Airport, Wichita, Kansas 67209; telephone (316) 946-4139; fax (316) 946-4107.

SUPPLEMENTARY INFORMATION:

Comments Invited

We invite you to submit any relevant written data, views, or arguments regarding this proposed AD. Send your comments to an address listed in the ADDRESSES section. Include the docket number “FAA-2005-22749; Directorate Identifier 2005-NM-188-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

We have received a report of the installation of an incorrect fuse on the over-temperature switch on panel ZK in the rear equipment bay on Raytheon Model Hawker 800XP airplanes. The manufacturer indicated that, during airplane maintenance, a 20-amp fuse, instead of the required 3-amp fuse, may have inadvertently been installed on fuse F1 of the ZK panel. This condition, if not corrected, could result in a short circuit in the fuse and consequent heat damage to associated wiring and surrounding equipment, which could result in smoke or fire on the airplane.

Relevant Service Information

We have reviewed Raytheon Service Bulletin SB 24-3724, dated May 2005. The service bulletin describes procedures for inspecting to determine if a 20-amp fuse is installed on the hydraulic over-temperature switch on panel ZK in the rear equipment bay, and replacing any 20-amp fuse with a 3-amp fuse. The service bulletin also recommends reporting compliance with the service bulletin and contacting the manufacturer if signs of damage are found on associated terminals and wires.

FAA's Determination and Requirements of the Proposed AD

We have evaluated all pertinent information and identified an unsafe condition that is likely to exist or develop on other airplanes of this same type design. For this reason, we are proposing this AD, which would require accomplishing the actions specified in the service information described previously, except as discussed under “Differences Between the Proposed AD and Service Bulletin.”

Differences Between the Proposed AD and Service Bulletin

Where the service bulletin specifies contacting the manufacturer if any sign of damage is found on associated terminals and wires, this proposed AD would require that, before further flight, you must contact the FAA for applicable repair actions. Then, before further flight, accomplish the applicable repair actions specified by the FAA in accordance with a method approved by the FAA.

Although the Accomplishment Instructions of the service bulletin describe procedures for reporting compliance with the service bulletin, this proposed AD would not require that action.

The service bulletin refers only to an “inspection” to ensure that a 20-amp fuse is not installed. We have determined that the procedures in the service bulletin should be described as a “general visual inspection.” Note 1 has been included in this proposed AD to define this type of inspection.

Clarification of Service Bulletin Note

The Raytheon service bulletin includes a note in the Accomplishment Instructions to inform operators to contact Raytheon “should any difficulty be encountered” in accomplishing the service bulletin. We have included Note 2 in this proposed AD to clarify that any deviation from the instructions provided in the service bulletin must be approved as an alternative method of compliance under paragraph (g) of this proposed AD.

Costs of Compliance

There are about 138 airplanes of the affected design in the worldwide fleet. This proposed AD would affect about 110 airplanes of U.S. registry. The proposed actions would take about 2 work hours per airplane, at an average labor rate of $65 per work hour. Required parts cost is negligible. Based on these figures, the estimated cost of the proposed AD for U.S. operators is $14,300, or $130 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Raytheon Aircraft Company: Docket No. FAA-2005-22749; Directorate Identifier 2005-NM-188-AD.

Comments Due Date

(a) The FAA must receive comments on this AD action by December 12, 2005.

Affected ADs

(b) None.

Applicability

(c) This AD applies to Raytheon Model Hawker 800XP airplanes, certificated in any category, serial numbers 258541, 258556, and 258567 through 258713 inclusive.

Unsafe Condition

(d) This AD results from a report of the installation of an incorrect fuse on the over-temperature switch on panel ZK in the rear equipment bay during airplane maintenance. We are issuing this AD to prevent a short circuit in the fuse and consequent heat damage to associated wiring and surrounding equipment, which could result in smoke or fire on the airplane.

Compliance

(e) You are responsible for having the actions required by this AD performed within the compliance times specified, unless the actions have already been done.

Inspect and Replace if Necessary

(f) Within 50 flight hours or 30 days after the effective date of this AD, whichever is first: Do a general visual inspection to determine if a 20-amp fuse is installed on the hydraulic over-temperature switch on panel ZK in the rear equipment bay in accordance with the Accomplishment Instructions of Raytheon Service Bulletin SB 24-3724, dated May 2005. If a 20-amp fuse is installed, before further flight, replace with a 3-amp fuse in accordance with the Accomplishment Instructions of the service bulletin.

Note 1: For the purposes of this AD, a general visual inspection is: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Note 2: A note in the Accomplishment Instructions of the Raytheon service bulletin instructs operators to contact Raytheon if any difficulty is encountered in accomplishing the service bulletin. However, any deviation from the instructions provided in the service bulletin must be approved as an alternative method of compliance (AMOC) under paragraph (g) of this AD.

Repair Approval

(g) Where the Raytheon Service Bulletin SB 24-3724, dated May 2005, says to contact the manufacturer if any sign of damage is found on associated terminals and wires: Before further flight, contact the Manager, Wichita Aircraft Certification Office, FAA, for applicable repair actions; then, before further flight, accomplish the applicable repair actions specified according to a method approved by the Manager, Wichita Aircraft Certification Office.

Alternative Methods of Compliance (AMOCs)

(h)(1) The Manager, Wichita Aircraft Certification Office, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on October 18, 2005.
Kevin M. Mullin,
Acting Manager, Transport Airplane Directorate, Aircraft Certification Service.

[FR Doc. 05-21438 Filed 10-26-05; 8:45 am]

BILLING CODE 4910-13-P